DEPARTMENT OF TRANSPORTATION

Federal Railroad Administration

[Docket Number FRA-2006-24647]

Petition for Waiver of Compliance

In accordance with part 211 of Title 49 Code of Federal Regulations (CFR), this document provides the public notice that by a document dated April 1, 2016, the Hoosier Valley Railroad Museum (HVRM) has petitioned the Federal Railroad Administration (FRA) for a waiver of compliance from certain provisions of the Federal railroad safety regulations contained at 49 CFR part 219. FRA assigned the petition Docket Number FRA-2006-24647.

HVRM requests an extension of an existing waiver providing relief from certain parts of 49 CFR part 219, specifically, reasonable cause testing, random testing, and the requirement to have voluntary referral and co-worker report policies. HVRM also wishes to update the territory that this waiver extension should apply to. The updated stations and mileposts are as follows:

• North Judson at Milepost (MP) 212.7 (end of track) to Malden at MP 230.8 (end of track);

• LaCrosse at MP 0.5 to Wellsboro (Union Mills) at MP 15.3;

• Inclusive of Wye connection at MP 222.8 and MP 0.5 LaCrosse.

HVRM operations of tourist trains will again be primarily between North Judson at MP 212.7 to LaCrosse at MP 222.9 to Wade at MP 223.4, and from LaCrosse at MP 0.5 to South Thomaston at MP 6.1. The railroad states that passenger trains will not operate on any excepted track. Occasional excursions beyond LaCrosse westward to Malden and LaCrosse north to Wellsboro (Union Mills) would be five times or less annually, with communication and coordination with the shortline operator. The community of Hanna at MP 9.1 holds an annual town festival and requests HVRM excursion train operations during the festival weekend which is usually held in August. The community of Union Mills holds an annual festival, the community of Malden holds an event, and that segment of track offers some picnic trains and agricultural excursions to accompany the community events.

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 1, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-14323 Filed 6-16-16; 8:45 am]

BILLING CODE 4910-06-P